DEPARTMENT OF TRANSPORTATION

Federal Motor Carrier Safety Administration

[Docket No. FMCSA-2004-17984]

Qualification of Drivers; Exemption Applications; Vision

AGENCY: Federal Motor Carrier Safety Administration (FMCSA), DOT.

ACTION: Notice of applications for exemption from the vision standard; request for comments.

SUMMARY: This notice publishes the FMCSA's receipt of applications from 30 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before July 19, 2004.

ADDRESSES: You may submit comments identified by any of the following methods. Please identify your comments by the DOT DMS Docket Number FMCSA-2004-17984.

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 am and 5 pm, Monday through Friday, except Federal Holidays.

• Federal eRulemaking Portal: Go to http://www.regulations.gov. Follow the on-line instructions for submitting comments.

Instructions: All submissions must include the agency name and docket number for this notice. For detailed instructions on submitting comments and additional information on the rulemaking process, see the Public Participation heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 am and 5 pm, Monday through Friday, except Federal Holidays.

FOR FURTHER INFORMATION CONTACT: Ms. Teresa Doggett, Office of Bus and Truck Standards and Operations, (202) 366-2990, FMCSA, Department of Transportation, 400 Seventh Street, SW., Washington, DC 20590-0001. Office hours are from 7:45 a.m. to 4:15 p.m., e.t., Monday through Friday, except Federal holidays.

SUPPLEMENTARY INFORMATION: Public Participation: The DMS is available 24 hours each day, 365 days each year. You can get electronic submission and retrieval help guidelines under the “help” section of the DMS web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 30 individuals listed in this notice have recently requested an exemption from the vision requirement in 49 CFR 391.41(b)(10), which applies to drivers of CMVs in interstate commerce. Accordingly, the agency will evaluate the qualifications of each applicant to determine whether granting the exemption will achieve the required level of safety mandated by the statute.

Qualifications of Applicants

1. Robert L. Aurandt

Mr. Aurandt, 51, has amblyopia in his right eye. His visual acuity in the right eye is 20/100 and in the left, 20/20. Following an examination in 2004, his ophthalmologist certified, “As far as I can see, there is no evidence on his examination or driving record to suggest that he should not be able to continue commercial driving.” Mr. Aurandt reported that he has driven straight trucks for 5 years, accumulating 73,500 miles, and tractor-trailer combinations for 8 years, accumulating 1.1 million miles. He holds a Class AM CDL from Pennsylvania. His driving record for the last 3 years shows no crashes and two convictions for speeding in a CMV. He exceeded the speed limit by 16 mph in one instance and 10 mph in the other.

2. Harry R. Brewer

Mr. Brewer, 40, has a macular scar in his left eye due to trauma 20 years ago. His best-corrected visual acuity in the right eye is 20/20 and in the left, 20/80. Following an examination in 2004, his optometrist certified, “Although Mr. Brewer has a central defect in his left eye, it is important to bear in mind that he has overlapping visual fields from his right eye. His vision is limited in the left eye, but I do not feel that it will affect his ability to drive a commercial vehicle.” Mr. Brewer reported that he has driven tractor-trailer combinations for 8 years, accumulating 640,000 miles. He holds a Class A CDL from Tennessee. His driving record for the last 3 years shows no crashes or convictions for moving violations in a CMV.

3. Wilford F. Christian

Mr. Christian, 65, has had macular degeneration in his left eye since 1996. His best-corrected visual acuity in the right eye is 20/20 and in the left, 20/400. Following an examination in 2004, his ophthalmologist certified, “Because of the stability of Mr. Christian's condition, the absence of ocular pathology in the right eye, full visual fields in each eye, and normal functioning central vision with both eyes when binocular in the distance, I do not see anything that should limit his ability to operate a commercial vehicle.” Mr. Christian reported that he has driven tractor-trailer combinations for 14 years, accumulating 1.4 million miles. He holds a driver's license from Virginia, but at the time of his application he held a Class A CDL, now expired. His driving record for the last 3 years shows no crashes and one conviction for a moving violation—speeding—in a CMV. He exceeded the speed limit by 9 mph.

4. Timothy A. DeFrange

Mr. DeFrange, 35, has had reduced vision in his right eye since age 12 due to trauma. His visual acuity in the right eye is 20/1600 and in the left, 20/20. Following an examination in 2004, his optometrist certified, “It is my professional opinion that Mr. DeFrange has sufficient vision to perform the driving tasks required to operate a commercial vehicle.” Mr. DeFrange submitted that he has driven straight trucks and tractor-trailer combinations for 6 years, accumulating 6,000 miles in the former and 600,000 miles in the latter. He holds a Class A CDL from Texas. His driving record for the last 3 years shows no crashes or convictions for moving violations in a CMV.

5. Terry G. Dickson, Sr.

Mr. Dickson, 53, has amblyopia in his right eye. The best-corrected visual acuity in his right eye is 20/1000 and in the left, 20/20. Following an examination in 2003, his optometrist stated, “I certify in my medical opinion that Mr. Dickson has sufficient vision to perform the driving tasks required to operate a commercial vehicle.” Mr. Dickson reported that he has driven tractor-trailer combinations for 32 years, accumulating 3.3 million miles. He holds a Class A CDL from Ohio. His driving record shows no crashes and one conviction for a moving violation—speeding—in a CMV. He exceeded the speed limit by 10 mph.

6. Clarence N. Florey, Jr.

Mr. Florey, 42, has amblyopia in his left eye. The visual acuity in his right eye is 20/20 and in the left, 20/200. Following an examination in 2004, his ophthalmologist certified, “In my medical opinion, Mr. Florey has sufficient vision to perform the driving tasks required to operate a commercial vehicle.” Mr. Florey submitted that he has driven straight trucks for 16 years, accumulating 100,000 miles. He holds a Class AM CDL from Pennsylvania. His driving record for the last 3 years shows no crashes or convictions for moving violations in a CMV.

7. Bobby C. Floyd

Mr. Floyd, 45, has amblyopia in his right eye. The best-corrected visual acuity in his right eye is 20/200 and in the left, 20/20. Following an examination in 2003, his optometrist stated, “It is my medical opinion that Mr. Floyd has sufficient vision to perform the driving tasks required to operate a commercial vehicle.” Mr. Floyd reported that he has driven tractor-trailer combinations for 23 years, accumulating 2.8 million miles. He holds a Class A CDL from Tennessee. His driving record shows no crashes or convictions for moving violations in a CMV during the last 3 years.

8. Steve H. Garrison

Mr. Garrison, 40, lost his left eye 16 years ago due to trauma. His visual acuity in the right eye is 20/10. Following an examination in 2003, his ophthalmologist certified, “He has sufficient vision to perform the driving tasks required to operate a commercial vehicle.” Mr. Garrison reported that he has driven tractor-trailer combinations for 20 years, accumulating 260,000 miles. He holds a Class A CDL from Illinois. His driving record for the last 3 years shows no crashes or convictions for moving violations in a CMV.

9. Ronald A. Gentry

Mr. Gentry, 44, lost his right eye due to trauma at age 14. The visual acuity in his left eye is 20/20. Following an examination in 2004, his optometrist stated, “I am hereby certifying that Ronald has sufficient vision to continue driving a commercial vehicle both in state and out of state.” Mr. Gentry submitted that he has driven tractor-trailer combinations for 5 years, accumulating 230,000 miles. He holds a Class A CDL from Montana. His driving record for the last 3 years shows no crashes or convictions for moving violations in a CMV.

10. Scott D. Goalder

Mr. Goalder, 43, lost his right eye due to trauma in 1978. The visual acuity in his left eye is 20/20. Following an examination in 2003, his optometrist certified, “It is my medical opinion that he has the necessary vision that is compatible with being licensed to drive a commercial vehicle.” Mr. Goalder submitted that he has driven straight trucks for 4 years, accumulating 220,000 miles, and tractor-trailer combinations for 20 years, accumulating 2.8 million miles. He holds a Class A CDL from Missouri. His driving record for the last 3 years shows no crashes and one conviction for a moving violation—“traffic turn/signal violation”—in a CMV.

11. Raymond P. Gonzales

Mr. Gonzales, 45, has retinal scarring in his right eye due to trauma in 1976. The best-corrected visual acuity in his right eye is 20/200 and in the left, 20/20. His optometrist examined him in 2004 and stated, “In my opinion, Mr. Gonzales has sufficient vision to safely operate a commercial vehicle.” Mr. Gonzales reported that he has driven buses for 25 years, accumulating 625,000 miles. He holds a Class B CDL from New Mexico. His driving record for the last 3 years shows no crashes or convictions for moving violations in a CMV.

12. David M. Hagadorn

Mr. Hagadorn, 37, has amblyopia in his left eye. The visual acuity in his right eye is 20/20 and in the left, 20/100. His optometrist examined him in 2003 and stated, “It is my professional opinion that Mr. Hagadorn has sufficient vision and peripheral vision to operate a commercial vehicle.” Mr. Hagadorn reported that he has driven straight trucks for 7 years, accumulating 210,000 miles. He holds a Class D driver's license from New Jersey. His driving record for the last 3 years shows no crashes or convictions for moving violations in a CMV.

13. Donald R. Hiltz

Mr. Hiltz, 62, has amblyopia in his left eye. His best-corrected visual acuity in the right eye is 20/25 and in the left, 20/50. Following an examination in 2003, his ophthalmologist certified, “In my medical opinion, Mr. Hiltz has sufficient vision to perform the driving tasks required to operate a commercial vehicle.” Mr. Hiltz reported that he has driven straight trucks for 43 years, accumulating 860,000 miles, and tractor-trailer combinations for 31 years, accumulating 310,000 miles. He holds a Class AM CDL from Massachusetts. His driving record for the last 3 years shows no crashes or convictions for moving violations in a CMV.

14. James L. Hooks

Mr. Hooks, 43, has amblyopia in his left eye. His best-corrected visual acuity in the right eye is 20/15 and in the left, 20/70. Following an examination in 2003, his optometrist certified, “I feel he has sufficient visual performance to operate a commercial vehicle.” Mr. Hooks reported that he has driven straight trucks for 5 years, accumulating 225,000 miles. He holds a Class R driver's license from Colorado. His driving record for the last 3 years shows no crashes or convictions for moving violations in a CMV.

15. Francisco J. Jimenez

Mr. Jimenez, 45, has amblyopia in his right eye. His best-corrected visual acuity in the right eye is counting fingers and in the left, 20/20. Following an examination in 2004, his optometrist certified, “I see no reason for restricting Mr. Jimenez's commercial license except that he should wear glasses when he is driving.” Mr. Jimenez reported that he has driven straight trucks for 6 years, accumulating 198,000 miles. He holds a Class A CDL from Texas. His driving record for the last 3 years shows no crashes or convictions for moving violations in a CMV.

16. Kelly R. Konesky

Mr. Konesky, 46, has amblyopia in his left eye. His best-corrected visual acuity in the right eye is 20/20 and in the left, 20/200. Following an examination in 2003, his ophthalmologist certified, “His driving abilities continue to demonstrate an excellent safety record, with no medical reason to restrict his driving a commercial vehicle.” Mr. Konesky reported that he has driven tractor-trailer combinations for 23 years, accumulating 2.3 million miles. He holds a Class A CDL from Ohio. His driving record for the last 3 years shows no crashes or convictions for moving violations in a CMV.

17. Gregory T. Lingard

Mr. Lingard, 56, has had keratoconus in his right eye since he was a teenager. The visual acuity in his right eye is 20/100 and in the left, 20/20. His ophthalmologist examined him in 2004 and stated, “In my medical opinion, Mr. Lingard has sufficient vision to perform the driving tasks required to operate a commercial vehicle.” Mr. Lingard reported that he has driven straight trucks for 4 years, accumulating 120,000 miles, and tractor-trailer combinations for 35 years, accumulating 3.5 million miles. He holds a Class A CDL from Montana. His driving record for the last 3 years shows no crashes or convictions for moving violations in a CMV.

18. Hollis J. Martin

Mr. Martin, 43, has amblyopia in his right eye due to a childhood injury. The visual acuity in his right eye is 20/400 and in the left, 20/20. His optometrist examined him in 2003 and certified, “In my medical opinion, Mr. Martin has sufficient vision to perform the driving tasks required to operate a commercial vehicle.” Mr. Martin submitted that he has driven straight trucks for 11 years, accumulating 200,000 miles, and tractor-trailer combinations for 6 years, accumulating 73,000 miles. He holds a Class A CDL from Alabama. His driving record for the last 3 years shows no crashes or convictions for moving violations in a CMV.

19. Truman J. Mathis

Mr. Mathis, 64, has amblyopia in his left eye. The best-corrected visual acuity in his right eye is 20/20 and in the left, 20/200. His optometrist examined him in 2003 and certified, “Mr. Mathis has adequate visual skills for commercial vehicle driving.” Mr. Mathis reported that he has driven tractor-trailer combinations for 17 years, accumulating 1.9 million miles. He holds a Class A CDL from the State of Washington. His driving record shows no crashes or convictions for moving violations in a CMV during the last 3 years.

20. Robert E. Moore

Mr. Moore, 45, lost vision in his right eye as a child due to congenital glaucoma. His visual acuity in the left eye is 20/20. Following an examination in 2003, his optometrist certified, “In my medical opinion Mr. Moore has sufficient vision to perform driving tasks required to operate a commercial vehicle.” Mr. Moore reported that he has driven straight trucks for 15 years, accumulating 150,000 miles. He holds a Class BM CDL from Alabama. His driving record for the last 3 years shows no crashes or convictions for moving violations in a CMV.

21. Kevin C. Palmer

Mr. Palmer, 43, has amblyopia in his left eye. His best-corrected visual acuity in the right eye is 20/15 and in the left, 20/80. Following an examination in 2004, his ophthalmologist certified, “In my opinion, Mr. Palmer's condition is stable and he has sufficient visual acuity and visual field to perform the driving tasks required of him to operate a commercial vehicle.” Mr. Palmer reported that he has driven tractor-trailer combinations for 16 years, accumulating 400,000 miles. He holds a Class A CDL from Oregon. His driving record for the last 3 years shows no crashes or convictions for moving violations in a CMV.

22. Charles O. Rhodes

Mr. Rhodes, 35, has glaucoma in his left eye, secondary to trauma at age 10. The visual acuity in his right eye is 20/20 and in the left, light perception. Following an examination in 2003, his ophthalmologist stated, “This certifies that in my medical opinion, Mr. Charles O. Rhodes has sufficient vision to perform the driving tasks required to operate a commercial vehicle.” Mr. Rhodes reported that he has driven straight trucks for 3 years, accumulating 60,000 miles. He holds a Class D driver's license from Florida. His driving record for the last 3 years shows no crashes and one conviction for a moving violation—speeding—in a CMV. He exceeded the speed limit by 25 mph.

23. Einar H. Rice

Mr. Rice, 47, has amblyopia in his right eye. The best-corrected visual acuity in his right eye is 20/60 and in the left, 20/20. His optometrist examined him in 2003 and stated, “In my medical opinion, Mr. Rice has sufficient vision to perform the necessary tasks to operate a commercial vehicle.” Mr. Rice submitted that he has driven straight trucks for 6 years, accumulating 120,000 miles, and buses for 17 years, accumulating 425,000 miles. He holds a Class BM CDL from Nevada. His driving record for the last 3 years shows no crashes or convictions for moving violations in a CMV.

24. Gordon G. Roth

Mr. Roth, 47, has amblyopia in his left eye. The best-corrected visual acuity in his right eye is 20/20 and in the left, 20/60. His ophthalmologist examined him in 2003 and stated, “It is my opinion that the patient has sufficient vision to perform driving tasks required to operate a commercial vehicle.” Mr. Roth submitted that he has driven straight trucks for 20 years; accumulating 200,000 miles, tractor-trailer combinations for 4 years, accumulating 100,000 miles, and buses for 6 years, accumulating 48,000 miles. He holds a Class A CDL from Kansas. His driving record for the last 3 years shows no crashes or convictions for moving violations in a CMV.

25. Manuel Sanchez

Mr. Sanchez, 44, has finger counting vision in his left eye due to an injury at the age of 8. The best-corrected visual acuity in his right eye is 20/20. Following an examination in 2004, his optometrist certified, “In my medical opinion, Mr. Sanchez has sufficient vision to perform the driving tasks required to operate a commercial vehicle.” Mr. Sanchez reported that he has driven straight trucks and tractor-trailer combinations for 5 years, accumulating 685,000 miles in each. He holds a Class A CDL from Texas. His driving record for the last 3 years shows no crashes or convictions for moving violations in a CMV.

26. Chris H. Schultz

Mr. Schultz, 45, has had a cataract in his right eye for 41 years. His best-corrected visual acuity in the right eye is 20/400 and in the left, 20/20. Following an examination in 2004, his optometrist certified, “In my professional opinion, I feel that Chris has sufficient vision to perform the driving tasks required to operate a commercial vehicle.” Mr. Schultz reported that he has driven vehicles requiring placarding for hazardous materials for 4 years, accumulating 168,000 miles. He holds a Class C CDL from Utah. His driving record for the last 3 years shows no crashes or convictions for moving violations in a CMV.

27. Halman Smith

Mr. Smith, 46, lost the vision in his left eye due to trauma 10 years ago. The visual acuity in his right eye is 20/20. His ophthalmologist examined him in 2004 and stated, “I certify that Mr. Halman Smith has sufficient vision to perform the driving tasks required to operate a commercial vehicle.” Mr. Smith reported that he has driven straight trucks for 15 years, accumulating 375,000 miles. He holds a Class B CDL from Delaware. His driving record for the last 3 years shows no crashes or convictions for moving violations in a CMV.

28. Norman K. Stepleton

Mr. Stepleton, 71, has amblyopia in his right eye. His visual acuity in the right eye is 20/400 and in the left, 20/20. Following an examination in 2003, his ophthalmologist certified, “My opinion is that you are visually capable of safely operating a commercial vehicle.” Mr. Stepleton reported that he has driven straight trucks for 52 years, accumulating 1.5 million miles. He holds a Class B CDL from Iowa. His driving record for the last 3 years shows no crashes or convictions for moving violations in a CMV.

29. LaLanne Taylor

Mr. Taylor, 55, has amblyopia in his left eye. His best-corrected visual acuity in the right eye is 20/25 and in the left, 20/100. Following an examination in 2003, his optometrist certified, “I do believe he has necessary vision to operate a commercial vehicle as he has done for many years.” Mr. Taylor reported that he has driven straight trucks for 8 years, accumulating 440,000 miles. He holds a Class D driver's license from Ohio. His driving record for the last 3 years shows one crash and no convictions for moving violations in a CMV. According to the police report, another driver sideswiped Mr. Taylor's vehicle while changing lanes. The other driver was cited for “change course.” Mr. Taylor was not cited.

30. James A. Walker

Mr. Walker, 47, has amblyopia in his right eye. His best-corrected visual acuity in the right eye is 20/300 and in the left, 20/20. Following an examination in 2004, his optometrist noted that Mr. Walker has “sufficient vision to perform commercial vehicle driving tasks.” Mr. Walker reported that he has driven straight trucks for 25 years, accumulating 125,000 miles, and tractor-trailer combinations for 7 years, accumulating 910,000 miles. He holds a Class A CDL from Missouri. His driving record for the last 3 years shows no crashes or convictions for moving violations in a CMV.

Request for Comments

In accordance with 49 U.S.C. 31315 and 31136(e), the FMCSA requests public comment from all interested persons on the exemption petitions described in this notice. We will consider all comments received before the close of business on the closing date indicated earlier in the notice.

Issued on: June 7, 2004.
Rose A. McMurray,
Associate Administrator, Policy and Program Development.

[FR Doc. 04-13719 Filed 6-16-04; 8:45 am]

BILLING CODE 4910-EX-P